DEPARTMENT OF LABOR

Employment and Training Administration

[TA-W-72,144]

Cummins Filtration, Including On-Site Leased Workers From Manpower and Spherion Staffing, Including On-Site Workers From Hagemeyer North America, Lake Mills, IA; Amended Certification Regarding Eligibility To Apply for Worker Adjustment Assistance

In accordance with Section 223 of the Trade Act of 1974, as amended (“Act”), 19 U.S.C. 2273, the Department of Labor issued a Certification of Eligibility to Apply for Worker Adjustment Assistance on October 15, 2009, applicable to workers of Cummins Filtration, including on-site leased workers from Manpower, Lake Mills, Iowa. The notice was published in the Federal Register on December 11, 2009 (74 FR 65798).

At the request of the petitioners, the Department reviewed the certification for workers of the subject firm. The workers are engaged in the production of oil and fuel filters, Stratpore media and other metal components for engines.

New information shows that workers from Hagemeyer North America were employed on-site at the Lake Mills, Iowa location of Cummins Filtration to provide procurement and inventory management services for the subject firm. Information also shows that workers leased from Spherion Staffing were employed on-site at the Lake Mills, Iowa location of Cummins Filtration. The Department has determined that workers from Spherion Staffing were sufficiently under the control of the subject firm to be considered leased workers.

Based on these findings, the Department is amending this certification to include workers from Hagemeyer North America and leased workers from Spherion Staffing working on-site at the Lake Mills, Iowa location of Cummins Filtration.

The amended notice applicable to TA-W-72,144 is hereby issued as follows:

All workers of Cummins Filtration, including on-site leased workers from Manpower and Spherion Staffing and including on-site workers from Hagemeyer North America, Lake Mills, Iowa, who became totally or partially separated from employment on or after August 26, 2008 through October 15, 2011, and all workers in the group threatened with total or partial separation from employment on date of certification through two years from the date of certification, are eligible to apply for adjustment assistance under Chapter 2 of Title II of the Trade Act of 1974, as amended.

Signed at Washington, DC, this 4th day of May, 2010.
Elliott S. Kushner
Certifying Officer, Division of Trade Adjustment Assistance.

[FR Doc. 2010-12106 Filed 5-19-10; 8:45 am]

BILLING CODE 4510-FN-P